DEPARTMENT OF STATE

[Public Notice 9210]

Determination Under Section 610 of the Foreign Assistance Act of 1961, As Amended

Pursuant to the authority vested in me by section 610 of the Foreign Assistance Act of 1961, as amended (the “Act”), and the President's Memorandum of Delegation dated April 16, 2015, I hereby determine it necessary for the purposes of the Act that pursuant to the relevant authorities of the Act, the following funds be transferred to, and consolidated with, funds made available under chapter 4 of part II of the Act, and such funds are hereby so transferred and consolidated:

• $12,150,000 of Fiscal Year 2014 funds from the Nonproliferation, Antiterrorism, Demining and Related Programs account to the Economic Support Fund account.

This determination shall be reported to Congress and published in the Federal Register.

John F. Kerry,
Secretary of State.

[FR Doc. 2015-18954 Filed 7-31-15; 8:45 am]

BILLING CODE 4710-AD-P